NUCLEAR REGULATORY COMMISSION

Notice of Sunshine Act Meeting

Agency Holding the Meetings: Nuclear Regulatory Commission.

Date: Week of October 9, 2006.

Place: Commissioners' Conference Room, 11555 Rockville Pike, Rockville, Maryland.

Status: Public and Closed.

Additional Matters to be Considered:

Week of October 9, 2006

Tuesday, October 10, 2006

12:55 p.m. Affirmation Session (Public Meeting) (Tentative). a. Entergy Nuclear Vermont Yankee, LLC and Energy Nuclear Operations, Inc., (Pilgrim Nuclear Power Station and Vermont Yankee Nuclear Power Station), Massachusetts Attorney General's Petition for Backfit Order (Tentative).

* * * * *

Additional Information

Affirmation of Entergy Nuclear Operations, Inc., (Pilgrim Nuclear Power Station), Massachusetts Attorney General's Petition for Backfit Order, tentatively scheduled for Thursday, October 5, 2006, at 12:55 p.m. has been rescheduled tentatively on Tuesday, October 10, 2006 at 12:55 p.m.

* * * * *

The schedule for Commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: October 2, 2006.
R. Michelle Schroll,
Office of the Secretary.

[FR Doc. 06-8530 Filed 10-3-06; 10:40 am]

BILLING CODE 7590-01-M